DEPARTMENT OF STATE

[Public Notice 7593]

Certification Related to Conditions Under Which Assistance Using FY 2011 Economic Support Funds (ESF) for the Reintegration of Former Members of Foreign Terrorist Organizations May Be Used

Pursuant to the authority vested in the Secretary of State under section 7046(b) of the Department of State, Foreign Operations, and Related Programs Appropriations Act, 2010 (Div. F, Pub. L. 111-117), as carried forward by the Full-Year Continuing Appropriations Act, 2011 (Div. B, Pub. L. 112-10), which incorporates by reference and amends, in part, section 7046(d) of the Department of State, Foreign Operations, and Related Programs Appropriations Act, 2009 (Div. H, Pub. L. 111-8) (FY 2009 SFOAA), I hereby determine and certify that the Government of Colombia is meeting the conditions described in section 7046(d)(2) of the FY 2009 SFOAA, and that I have consulted with Congress as consistent with section 7046(d)(1) of the FY 2009 SFOAA, as amended.

This Certification shall be published in the Federal Register and copies shall be transmitted to the appropriate committees of Congress.

Dated: September 6, 2011.
Hillary Rodham Clinton,
Secretary of State.

[FR Doc. 2011-24034 Filed 9-16-11; 8:45 am]

BILLING CODE 4710-29-P